DEPARTMENT OF HEALTH AND HUMAN SERVICES

Health Resources and Services Administration

Non-Competitive One-Year Extension With Funds for State Early Childhood Comprehensive Systems Grantees

AGENCY: Health Resources and Services Administration, HHS.

ACTION: Notice of a Non-Competitive One-Year Extension With Funds for State Early Childhood Comprehensive Systems (ECCS) (H-25) Grantees.

SUMMARY: The Health Resources and Services Administration (HRSA) will be issuing a non-competitive one-year extension with funds for the current grantees of the State Early Childhood Comprehensive Systems Program. Up to $150,000 per grantee will be awarded over a one-year extended project period. The State Early Childhood Comprehensive Systems (ECCS) Grant Program ensures the healthy physical, social, and emotional development of children (birth to five years of age) by supporting statewide collaborations of early childhood service providers to create a seamless system of early childhood services for young children and their families. Each ECCS grantee is an active member, and in some cases these grantees hold a leadership role in their early childhood multi-agency State teams. Together, such teams have developed Early Childhood Comprehensive Systems Plans that guide the development, implementation, governance, and financing of their States' early childhood service systems. The State team activities associated with these plans, and the comprehensive systems they describe, also include the identification and implementation of early childhood systems best-practice models, as well as the development of human resources and policies to support these practices. This extension with funds will allow HRSA's Maternal and Child Health Bureau (MCHB) to align its early childhood systems-building activities with HRSA's Maternal, Infant, and Early Childhood Home Visiting (MIECHV) program, the State Advisory Councils (SACs) and other early childhood initiatives under the Administration for Children and Families (ACF), the Substance Abuse and Mental Health Services Administration's (SAMHSA) Project LAUNCH, and the Department of Education's Race to the Top (RTT).

SUPPLEMENTARY INFORMATION: Grantees of record and intended award amounts are:

Grantee organization name | Grant No. | State | FY2011 authorized funding level | FY2012 estimated funding level
Alabama department of public health | H25MC00238C0 | AL | $150,000.00 | $150,000.00
Arizona Early Childhood Development and Health Board | H25MC17140A0 | AZ | 150,000.00 | 150,000.00
Arkansas Department of Health | H25MC00265C0 | AR | 150,000.00 | 150,000.00
California Department of Public Health | H25MC08762B0 | CA | 150,000.00 | 150,000.00
Colorado State Department/Public Health & Environment | H25MC00228C0 | CO | 150,000.00 | 150,000.00
Commonwealth of the Northern Mariana Islands | H25MC06112B0 | MP | 150,000.00 | 150,000.00
Delaware Health & Social Services | H25MC00253C0 | DE | 150,000.00 | 150,000.00
District of Columbia/Department of Health | H25MC00241C0 | DC | 150,000.00 | 150,000.00
Florida State Department of Health | H25MC01320C0 | FL | 150,000.00 | 150,000.00
Georgia Department of Community Health | H25MC16260A0 | GA | 150,000.00 | 150,000.00
Idaho State Department of Health and Welfare | H25MC00245C0 | ID | 150,000.00 | 150,000.00
Illinois Department of Human Services | H25MC00247C0 | IL | 150,000.00 | 150,000.00
Indiana State Department of Health | H25MC00263C0 | IN | 150,000.00 | 150,000.00
Iowa Department of Public Health | H25MC00230C0 | IA | 150,000.00 | 150,000.00
Kansas State Department of Health and Environment | H25MC00234C0 | KS | 150,000.00 | 150,000.00
Kentucky Cabinet for Health Services | H25MC00255C0 | KY | 150,000.00 | 150,000.00
Louisiana State Department of Health & Hospitals | H25MC00271C0 | LA | 150,000.00 | 150,000.00
Maine Department of Human Services | H25MC00266C0 | ME | 150,000.00 | 150,000.00
Maryland Department of Health & Mental Hygiene | H25MC00273C0 | MD | 150,000.00 | 150,000.00
Massachusetts Department of Public Health | H25MC00262C0 | MA | 150,000.00 | 150,000.00
Michigan Department of Community Health | H25MC00252C0 | MI | 150,000.00 | 150,000.00
Minnesota Department of Health | H25MC00276C0 | MN | 150,000.00 | 150,000.00
Missouri Department of Health | H25MC01327C0 | MO | 150,000.00 | 150,000.00
Montana Department of Public Health and Human Services | H25MC06098B0 | MT | 150,000.00 | 150,000.00
North Carolina Department of Health and Human Services | H25MC00259C0 | NC | 150,000.00 | 150,000.00
Nevada Department of Human Resources | H25MC00229C0 | NV | 150,000.00 | 150,000.00
New Jersey State Department of Health and Senior Services | H25MC00248C0 | NJ | 150,000.00 | 150,000.00
New Mexico State Department of Health | H25MC00236C0 | NM | 150,000.00 | 150,000.00
New York State Office of Children and Family Services | H25MC12970A0 | NY | 150,000.00 | 150,000.00
North Dakota State Department of Health | H25MC00237D0 | ND | 150,000.00 | 150,000.00
Oklahoma State Department of Health | H25MC01323C0 | OK | 150,000.00 | 150,000.00
Oregon State Department of Human Services | H25MC00269C0 | OR | 150,000.00 | 150,000.00
Puerto Rico Department of Health | H25MC00274C0 | PR | 150,000.00 | 150,000.00
Republic of Palau Bureau of Health Services | H25MC00277C0 | PW | 150,000.00 | 150,000.00
State of Alaska Department of Health & Social Services | H25MC01326C0 | AK | 150,000.00 | 150,000.00
State of Connecticut | H25MC01329C0 | CT | 150,000.00 | 150,000.00
State of Hawaii Department of Health | H25MC00278C0 | HI | 150,000.00 | 150,000.00
State of Nebraska | H25MC00240C0 | NE | 150,000.00 | 150,000.00
State of New Hampshire | H25MC00249C0 | NH | 150,000.00 | 150,000.00
State of Ohio-Department of Health | H25MC01324C0 | OH | 150,000.00 | 150,000.00
State of Rhode Island Department of Health | H25MC00270C0 | RI | 150,000.00 | 150,000.00
State of South Carolina | H25MC06113B0 | SC | 150,000.00 | 150,000.00
Tennessee State Department of Health | H25MC00260C0 | TN | 150,000.00 | 150,000.00
Texas Health & Human Services Commission | H25MC03383C0 | TX | 150,000.00 | 150,000.00
University of Guam | H25MC18121A0 | GU | 150,000.00 | 150,000.00
Utah Department of Health | H25MC00268C0 | UT | 150,000.00 | 150,000.00
Vermont State Department of Health | H25MC00235C0 | VT | 150,000.00 | 150,000.00
Virginia State Department of Health | H25MC00231C0 | VA | 150,000.00 | 150,000.00
Washington State Department of Health | H25MC00254C0 | WA | 150,000.00 | 150,000.00
West Virginia, Department of Health and Human Services | H25MC01328C0 | WV | 150,000.00 | 150,000.00
Wisconsin State Department of Health & Social Services | H25MC00232C0 | WI | 150,000.00 | 150,000.00
Wyoming State Department of Health | H25MC00256C0 | WY | 150,000.00 | 150,000.00

Amount of the Award(s): Up to $150,000 per grantee over a one-year project period.

CFDA Number: 93.110.

Current Project Period: 6/1/2011 through 5/31/2012.

Period of Supplemental Funding: 6/1/2012 through 5/31/2013.

Authority: Title V, Section 501(a)(3) of the Social Security Act.

Justification

HRSA is extending funding for the ECCS grants by one year for the following reasons. MCHB has been working with leaders within HRSA involved in early childhood service systems, as well as with other early childhood experts and leaders in the field, to align its early childhood systems-building activities with early childhood investments within HRSA, including the MIECHV program, and with other Federal Government early childhood initiatives. HRSA/MCHB is focusing on the most efficient and effective use of funds to continue promoting coordinated, comprehensive early childhood systems and services for the Nation's children and families.

HRSA's MIECHV program funds evidence-based home visiting programs in 54 States and jurisdictions. Research shows that the success of such home visiting programs is dependent upon the kind of sound infrastructure that ECCS promotes and sustains. To ensure coordinated and non-duplicative HRSA program planning, as well as future early childhood systems programming, it is crucial to sustain MCHB's current systems development efforts under ECCS for one additional year while the next early childhood systems program is developed with input from stakeholders.

FOR FURTHER INFORMATION CONTACT: Audrey Yowell, Maternal and Child Health Bureau, Health Resources and Services Administration, 5600 Fishers Lane, Room 10-86, Rockville, Maryland 20857 or email ayowell@hrsa.gov.

Dated: May 2, 2012.
Mary K. Wakefield,
Administrator.

[FR Doc. 2012-11377 Filed 5-10-12; 8:45 am]

BILLING CODE 4165-15-P